DEPARTMENT OF THE INTERIOR

Bureau of Land Management

[LLNVW0300.L51100000. GN0000.LVEMF1000880 241A; 12-08807; MO# 4500030363; TAS: 14X5017]

Notice of Availability of the Draft Environmental Impact Statement for the Hycroft Mine Expansion, Humboldt and Pershing Counties, NV

AGENCY: Bureau of Land Management, Interior.

ACTION: Notice of availability.

SUMMARY: In compliance with the National Environmental Policy Act of 1969, as amended, (NEPA) and the Federal Land Policy and Management Act of 1976, as amended, the Bureau of Land Management (BLM) Winnemucca District, Black Rock Field Office, Winnemucca, Nevada has prepared a Draft Environmental Impact Statement (EIS) for the Hycroft Mine Expansion and by this notice is announcing the opening of the comment period.

DATES: To ensure comments will be considered, the BLM must receive written comments on the Hycroft Mine Expansion Draft EIS within 45 days following the date the Environmental Protection Agency publishes its Notice of Availability in the Federal Register. The BLM will announce future meetings or hearings and any other public involvement activities at least 15 days in advance through public notices, media releases, and/or mailings.

ADDRESSES: You may submit comments related to the Hycroft Mine Expansion Draft EIS by any of the following methods:

• Web site: www.blm.gov/nv/st/en/fo/wfo/blm_information/nepa0.html.

• Email: wfoweb_comments@blm.gov.

• Fax: (775) 623-1503.

• Mail: Bureau of Land Management, Winnemucca District Office, 5100 E. Winnemucca Boulevard, Winnemucca, Nevada 89445, Attn. Kathleen Rehberg.

Copies of the Hycroft Mine Expansion Draft EIS are available in the Winnemucca District Office at the above address.

FOR FURTHER INFORMATION CONTACT: Kathleen Rehberg, Project Lead, telephone (775) 623-1500; address 5100 E. Winnemucca Boulevard, Winnemucca, Nevada 89445; email: wfoweb@blm.gov. Persons who use a telecommunications device for the deaf (TDD) may call the Federal Information Relay Service (FIRS) at 1-(800) 877-8339 to contact the above individual during normal business hours. The FIRS is available 24 hours a day, 7 days a week, to leave a message or question with the above individual. You will receive a reply during normal business hours.

SUPPLEMENTARY INFORMATION: Hycroft Resources Development Inc., (HRDI) proposes to expand mining activities at the existing Hycroft Mine on BLM-managed public land and on private land in Humboldt and Pershing counties, approximately 55 miles west of Winnemucca, Nevada, on the west flank of the Kamma Mountains. HRDI submitted an amended Plan of Operations to the BLM for approval, which proposes to expand the existing project boundary of 8,858 acres an additional 5,895 acres for a total project area of approximately 14,753 acres of public and private land. The Hycroft Mine currently employs approximately 205 workers. The proposed expansion would increase the mine life by approximately 12 years and increase employment to approximately 537 mine personnel.

The Draft EIS analyzes the potential environmental impacts associated with the proposed expansion, which includes 2,173 acres of new surface disturbance. An updated inventory of wilderness characteristics was used for the analysis of potential impacts associated with this project. The existing open pit operation and associated disturbance would be increased from 1,371 acres of public land to 3,428 acres of public land. Disturbance on private land controlled by HRDI would be increased from 1,692 acres to 1,807 acres. The additional acreage in the project boundary would be used for exploration.

The Draft EIS analyzes two alternatives; the Proposed Action and the No Action Alternative.

The Proposed Action, if selected by the BLM, would include: Expansion of the plan boundary and use of the entire project area for exploration; incorporation of five rights-of-way; expand four existing open pits; the backfilling of all or portions of three open pits; build a dispatch center and expand maintenance facilities; expansion of haul and secondary roads, waste rock facilities, and heap leach facilities; expansion of existing and construction of two ready line and heavy equipment fueling areas; expansion of existing waste rock facilities; the operation a portable crusher with conveyors at the south heap leach facility; construct, operate, and then close the south heap leach facility, Merrill-Crowe process plant, and solution ponds; relocation of a segment of the Seven Troughs Road to bypass the south heap leach facility; expansion of the existing refinery and the Brimstone Merrill-Crowe plant; construct storm water diversions, install culverts, and other storm water controls; close the existing Class III landfill and construct a new Class III landfill; the drilling of one potable-water well and one process-water well; the relocation of the existing Brimstone substation, upgrade the existing Crofoot substation, and extension of power lines to new process areas; construction of growth media stockpiles; and reclaimation of the project consistent with the proposed reclamation plan.

Under the No-Action Alternative the BLM would not approve the proposed plan of operations and there would be no expansion. HRDI would continue mining activities under the previously approved plans of operation.

Three other alternatives were considered, then eliminated: Daylight Hours Operation, Modified Exploration Activities, and Different Waste Rock Dump and Heap Leach Pad Configurations.

A Notice of Intent to Prepare an EIS for the Proposed Hycroft Mine Expansion was published in the Federal Register on April 1, 2011 (76 FR 18243). Ten comments were received during a 90-day scoping period. The comments stated concerns about lighting impacts to night skies and the economic benefits including jobs. The proponent prepared a lighting plan designed to lessen the impacts of light outside the project area by using directional lighting, and lowering or moving light sources. Other issues raised during initial internal and external scoping were possible impacts from acid mine drainage and the proximity of the mine to the Black Rock Desert-High Rock Canyon-Emigrant Trails National Conservation Area (NCA). A Waste Rock Characterization Report has been completed for the various types of rock to be mined, and the specific measures that would be taken to prevent acid rock drainage will be outlined in the Draft EIS. While outside of the NCA, the project is within visual range of the NCA. Mitigating the visual issue is the fact that the mine has been in existence since 1987 and the NCA was designated in 1990.

Please note that public comments and information submitted including names, street addresses, and email addresses of persons who submit comments will be available for public review and disclosure at the above address during regular business hours (7:30 a.m. to 4:30 p.m.), Monday through Friday, except holidays.

Before including your address, phone number, email address, or other personal identifying information in your comment, you should be aware that your entire comment—including your personal identifying information—may be made publicly available at any time. While you can ask us in your comment to withhold your personal identifying information from public review, we cannot guarantee that we will be able to do so.

Authority: 40 CFR 1506.6 and 1506.10.

Gene Seidlitz,
District Manager.

[FR Doc. 2012-1458 Filed 1-26-12; 8:45 am]

BILLING CODE 4310-HC-P